DEPARTMENT OF LABOR

Employment and Training Administration

[TA-W-71,262]

Penn-Union Corporation, Edinboro, PA; Notice of Termination of Investigation

Pursuant to Section 221 of the Trade Act of 1974, as amended, an investigation was initiated in response to a petition filed on June 17, 2009, by the Glass, Molders, Pottery International Union (GMP) Local 61, on behalf of workers of Penn-Union Corporation, Edinboro, Pennsylvania.

The petition is a duplicate of petition number TA-W-70,689, filed on May 28, 2009, that is subject of an ongoing investigation. Therefore, further investigation in this case would serve no purpose and the investigation has been terminated.

Signed at Washington, DC, this 29th of June 2009.
Linda G. Poole,
Certifying Officer, Division of Trade Adjustment Assistance.

[FR Doc. E9-18057 Filed 7-28-09; 8:45 am]

BILLING CODE 4510-FN-P